DEPARTMENT OF DEFENSE

Department of the Navy

Notice of Intent To Grant Exclusive Patent License; OxiCool, Inc.

AGENCY: Department of the Navy, DoD.

ACTION: Notice.

SUMMARY: The Department of the Navy hereby gives notice of its intent to grant to OxiCool, Inc., of 4747 South Broad Street, The Navy Yard, Building 101, Suite LL40, Philadelphia, PA 19112-103, a revocable, nonassignable, exclusive license, in all fields of use on commercial and residential air conditioning systems, to practice in the United States (U.S.), the Government-Owned invention, as identified in U.S. Patent No. 6,240,742: Modular Portable Air-Conditioning System, issued June 05, 2001//U.S. Patent Application No. 12/537,852: Air Conditioning System//Navy Case No. PAX83, filed August 07, 2009; and all U.S. and International applications and/or patents claiming priority from either of the forgoing.

DATES: Anyone wishing to object to the grant of this license must file written objections along with supporting evidence, if any, not later than October 12, 2011.

ADDRESSES: Written objections are to be filed with Naval Air Warfare Center Aircraft Division, Office of Research and Technology Applications, Attn: Mr. Paul Fritz, Building 505, Room 117, 22473 Millstone Road, Patuxent River, MD 20670.

FOR FUTHER INFORMATION CONTACT: Mr. Paul Fritz, Naval Air Warfare Center, Office of Research and Technology Applications, Building 505, Room 117, 22473 Millstone Road, Patuxent River, MD 20670.

Authority: (35 U.S.C. 207, 37 CFR Part 404.)

Dated: September 20, 2011.
L.R. Almand,
Office of the Judge Advocate General, U.S. Navy, Alternate Federal Register Liaison Officer.

[FR Doc. 2011-24768 Filed 9-26-11; 8:45 am]

BILLING CODE 3810-FF-P